DEPARTMENT OF COMMERCE

National Oceanic and Atmospheric Administration

[I.D. 091605E]

Gulf of Mexico Fishery Management Council; Public Meetings

AGENCY: National Marine Fisheries Service (NMFS), National Oceanic and Atmospheric Administration (NOAA), Commerce.

ACTION: Notice of public meetings.

SUMMARY: The Gulf of Mexico Fishery Management Council to convene a joint meeting of the Standing and Special Reef Fish Scientific and Statistical Committees (SSCs).

DATES: The meeting will be on October 12, 2005, from 8:30 a.m. - 4 p.m.

ADDRESSES: The meeting will be held at the Quorum Hotel Tampa, 700 North Westshore Boulevard, Tampa, FL 33609, telephone 813.289.8200.

Council address: Gulf of Mexico Fishery Management Council, 2203 North Lois Avenue, Suite 1100, Tampa, FL 33607.

FOR FURTHER INFORMATION CONTACT: Wayne E. Swingle, Executive Director, Gulf of Mexico Fishery Management Council; telephone: 813.348.1630.

SUPPLEMENTARY INFORMATION: The Gulf of Mexico Fishery Management Council (Council) will convene a joint meeting of the Standing and Special Reef Fish Scientific and Statistical Committees (SSCs) to review draft Amendment 26 to the Reef Fish Fishery Management Plan (FMP) that contains alternatives to establish an individual fishing quota (IFQ) program for the commercial red snapper fishery in the Gulf of Mexico that has been declared to be overfished and undergoing overfishing. The IFQ program is being considered to address existing and emerging problems resulting from overcapitalization in this fishery while it recovers. Actions being considered as part of the IFQ program include: its duration, eligibility for shares, initial allocation of shares, potential caps and/or restrictions on shares, and transferability of shares. Other actions being considered include: whether or not shares must be used; how adjustments to the commercial quota will affect allocations and shares; the possible requirement of vessel monitoring systems (VMS) on participating vessels; and a cost recovery plan. The SSCs will review this amendment and provide recommendations for the Council's Reef Fish Management Committee to review at their November 14 - 17, 2005 meeting.

Although other non-emergency issues not on the agendas may come before the SSCs for discussion, in accordance with the Magnuson-Stevens Fishery Conservation and Management Act (M-SFCMA), those issues may not be the subject of formal action during these meetings. Actions of the SSCs will be restricted to those issues specifically identified in the agendas and any issues arising after publication of this notice that require emergency action under Section 305(c) of the M-SFCMA, provided the public has been notified of the Council's intent to take action to address the emergency. The established times for addressing items on the agenda may be adjusted as necessary to accommodate the timely completion of discussion relevant to the agenda items. In order to further allow for such adjustments and completion of all items on the agenda, the meeting may be extended from, or completed prior to the date established in this notice.

Special Accommodations

These meetings are physically accessible to people with disabilities. Requests for sign language interpretation or other auxiliary aids should be directed to Dawn Aring at the Council (see ADDRESSES) at least 5 working days prior to the meeting.

Dated: September 16, 2005.
Emily Menashes,
Acting Director, Office of Sustainable Fisheries, National Marine Fisheries Service.

[FR Doc. E5-5152 Filed 9-21-05; 8:45 am]

BILLING CODE 3510-22-S